DEPARTMENT OF THE INTERIOR

National Park Service

General Management Plan, Draft Environmental Impact Statement, Fort Davis National Historic Site, Texas

AGENCY: National Park Service, Department of the Interior.

ACTION: Availability of draft environmental impact statement and general management plan for Fort Davis national historic site.

SUMMARY: Pursuant to section 102(2)(C) of the National Environmental Policy Act of 1969, the National Park Service announces the availability of a Draft Environmental Impact Statement and General Management Plan (DEIS/GMP) for Fort Davis National Historic Site, Texas.

DATES: The DEIS/GMP will remain available for public review through March 15, 2001. If any public meetings are held concerning the DEIS/GMP, they will be announced at a later date.

Comments: If you wish to comment, you may submit your comments by any one of several methods. You may mail comments to Superintendent, Fort Davis National Historic Site, P.O. Box 1456, Fort Davis, Texas 79734. You may also comment via the Internet to http://www.nps.gov/planning/foda/. Please submit Internet comments as an ASCII file avoiding the use of special characters and any form of encryption. Please also include “Attn: (any identifying names or codes)” and your name and return address in your Internet message. If you do not receive a confirmation from the system that we have received your Internet message, contact us directly at Fort Davis National Historic Site, 915-426-3225. Finally, you may hand-deliver comments to Fort Davis National Historic Site, P.O. Box 1456, Fort Davis, Texas 79734. Our practice is to make comments, including names and home addresses of respondents, available for public review during regular business hours. Individual respondents may request that we withhold their home address from the record, which we will honor to the extent allowable by law. There also may be circumstances in which we would withhold from the record a respondent's identity, as allowable by law. If you wish us to withhold your name and/or address, you must state this prominently at the beginning of your comment. We will make all submissions from organizations or businesses, and from individuals identifying themselves as representatives or officials of organizations or businesses, available for public inspection in their entirety.

ADDRESSES: Copies of the DEIS/GMP are available from the Superintendent, Fort Davis National Historic Site, P.O. Box 1456, Fort Davis, Texas 79734. Public reading copies of the DEIS/GMP will be available for review at the following locations: Office of the Superintendent, Fort Davis National Historic Site, P.O. Box 1456, Fort Davis, Texas 79734, Telephone: 915-426-3225; Planning and Environmental Quality, Intermountain Support Office—Denver, National Park Service, 12795 W. Alameda Parkway, Lakewood, CO 80228, Telephone: (303) 969-2851; Office of Public Affairs, National Park Service, Department of Interior 18th and C Streets NW, Washington, DC 20240, Telephone: (202) 208-6843.

SUPPLEMENTARY INFORMATION: The DEIS/GMP analyzes four (4) alternatives a no-action and three action alternatives including the National Park Service proposal. Alternative C, the proposed General Management Plan would retain most existing visitor experiences and would improve outreach programs, visitor orientation, collaborative research partnership opportunities, and administrative staff services. It also provides for enhanced protection for facilities and resources from flooding. Alternative B would protect and preserve the fort's historic setting and historic viewscape and would minimize modern intrusions in the historic core area. Alternative D would broaden the interpretive themes to highlight the more complex role of Fort Davis in the history of the American West. Under the no-action alternative, existing administrative, maintenance, land use, and resource management activities would continue with current use serving as the basis for mapping management prescriptions.

The DEIS/GMP in particular evaluates the environmental consequences of the proposed action and the other alternatives on visitor experience, archeological resources, cultural landscapes and historic resources, long-term health of natural ecosystems, economic contribution to local communities, adjacent landowners, and facility/operational efficiency. The plan also identifies cumulative effects on wetlands and floodplains for the National Park Service proposal.

FOR FURTHER INFORMATION CONTACT: Contact Superintendent, Fort Davis National Historic Site, at the above address and telephone number.

Dated: December 8, 2000.
Michael D. Snyder,
Director, Intermountain Region, National Park Service.

[FR Doc. 00-32439 Filed 12-20-00; 8:45 am]

BILLING CODE 4310-10-P